DEPARTMENT OF HEALTH AND HUMAN SERVICES

Centers for Medicare & Medicaid Services

[Document Identifier CMS-10291 and CMS-10292]

Agency Information Collection Activities: Proposed Collection; Comment Request

AGENCY: Centers for Medicare & Medicaid Services.

In compliance with the requirement of section 3506(c)(2)(A) of the Paperwork Reduction Act of 1995, the Centers for Medicare & Medicaid Services (CMS) is publishing the following summary of proposed collections for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

1. Type of Information Collection Request: Extension without change of a currently approved collection; Title of Information Collection: Dental Provider and Benefit Information Posted on Insure Kids Now! Web site; Form Number: CMS-10291 (OMB#: 0938-1065); Use: Section 501 of the Children's Health Insurance Program Reauthorization Act (CHIPRA) requires the Secretary to work with States, pediatric dentists, and other dental providers to include on the Insure Kids Now (IKN) Web site, a “current and accurate list of all dentists and providers within each State that provide dental services to children enrolled in the State plan (or waiver) under Medicaid or the State child health plan (or waiver) under CHIP. Section 501 of CHIPRA also requires the Secretary to ensure the list is updated at least quarterly and includes the description of the dental services provided under Medicaid or CHIP and whether the services are provided through a State plan or waiver. The Secretary shall also post on the IKN Web site State specific information on available dental benefits. This information collection requirement will allow States to collect the information on the dental providers and dental benefits in accordance with CHIPRA. Frequency: Yearly and Quarterly; Affected Public: State, Tribal and Local governments; Number of Respondents: 51; Total Annual Responses: 255; Total Annual Hours: 9,180. (For policy questions regarding this collection contact Nancy Goetschius at 410-786-0707. For all other issues call 410-786-1326.)

2. Type of Information Collection Request: New Collection; Title of Information Collection: State Medicaid HIT Plan and Templates for Implementation of Section 4201 of ARRA; Form Number: CMS-10292 (OMB#: 0938-NEW); Use: This information is being requested in order that States can submit documentation to CMS for review and approval in order that States can implement the Medicaid program and draw down Federal financial participation. The American Reinvestment and Recovery Act of 2009 (ARRA) provides States with the flexibility to request funds to develop a health information technology vision and road to get to the ultimate goal of meaningful use of certified electronic health records technology. We will be sending State Medicaid Directors letters and templates for the State Medicaid Hit Plan (SMHP), the Planning Advance Planning Document (PAPD) and the Implementation Advance Planning Document (IAPD) to States in an effort to request these changes if they so choose to make the process as simple as possible. Frequency: Yearly, once and/or occasionally; Affected Public: State, Tribal and Local governments; Number of Respondents: 56; Total Annual Responses: 56; Total Annual Hours: 280. (For policy questions regarding this collection contact Donna Schmidt at 410-786-5532. For all other issues call 410-786-1326.)

To obtain copies of the supporting statement and any related forms for the proposed paperwork collections referenced above, access CMS' Web Site at http://www.cms.hhs.gov/PaperworkReductionActof1995, or e-mail your request, including your address, phone number, OMB number, and CMS document identifier, to Paperwork@cms.hhs.gov, or call the Reports Clearance Office on (410) 786-1326.

In commenting on the proposed information collections please reference the document identifier or OMB control number. To be assured consideration, comments and recommendations must be submitted in one of the following ways by November 10, 2009:

1. Electronically. You may submit your comments electronically to http://www.regulations.gov. Follow the instructions for “Comment or Submission” or “More Search Options” to find the information collection document(s) accepting comments.

2. By regular mail. You may mail written comments to the following address: CMS, Office of Strategic Operations and Regulatory Affairs, Division of Regulations Development, Attention: Document Identifier/OMB Control Number, Room C4-26-0,5, 7500 Security Boulevard, Baltimore, Maryland 21244-1850.

Dated: September 4, 2009.
Michelle Shortt,
Director, Regulations Development Group, Office of Strategic Operations and Regulatory Affairs.

[FR Doc. E9-21956 Filed 9-10-09; 8:45 am]

BILLING CODE 4120-01-P